DEPARTMENT OF ENERGY

Federal Energy Regulatory Commission

[Docket No. EL20-46-000]

Complaint of Michael Mabee Related to Critical Infrastructure Protection Reliability Standards; Notice of Complaint

Take notice that on May 12, 2020, pursuant to section 215(d) of the Federal Power Act, 16 U.S.C. 824o(d) and Rule 206 of the Federal Energy Regulatory Commission's (Commission) Rules of Practice and Procedure, 18 CFR 385.206 (2019), Michael Mabee, (Complainant) filed a formal complaint alleging that Critical Infrastructure Protection Reliability Standard (CIP-013-1) (Cyber Security Supply Chain Risk Management) does not comport with Presidential Executive Order 13920: Securing the United States Bulk-Power System; and does not fully address the National Institute of Standards and Technology Cybersecurity Framework, as more fully explained in the complaint.

Complainant certifies that copies of the complaint were served on the contacts as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. All interventions, or protests must be filed on or before the comment date.

The Commission strongly encourages electronic filings of comments, protests and interventions in lieu of paper using the “eFiling” link at http://www.ferc.gov. Persons unable to file electronically may mail similar pleadings to the Federal Energy Regulatory Commission, 888 First Street NE, Washington, DC 20426. Hand delivered submissions in docketed proceedings should be delivered to Health and Human Services, 12225 Wilkins Avenue, Rockville, Maryland 20852.

In addition to publishing the full text of this document in the Federal Register, the Commission provides all interested persons an opportunity to view and/or print the contents of this document via the internet through the Commission's Home Page (http://ferc.gov) using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance, contact the Federal Energy Regulatory Commission at FERCOnlineSupport@ferc.gov, or call toll-free, (886) 208-3676 or TYY, (202) 502-8659.

Comment Date: 5:00 Eastern Time on June 11, 2020.

Dated: May 14, 2020.
Kimberly D. Bose,
Secretary.

[FR Doc. 2020-10841 Filed 5-19-20; 8:45 am]

BILLING CODE 6717-01-P